FEDERAL RESERVE SYSTEM

Change in Bank Control Notices; Acquisitions of Shares of an Insured Depository or Institution Holding Company

The notificants listed below have applied under the Change in Bank Control Act (“Act”) (12 U.S.C. 1817(j)) to acquire shares of an insured depository institution or holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than May 20, 2019.

A. Federal Reserve Bank of Minneapolis (Mark A. Rauzi, Vice President), 90 Hennepin Avenue, Minneapolis, Minnesota 55480-0291:

1. Heather M. Plumski, Avon, Minnesota, as a trustee of the Stearns Financial Services, Inc., Employee Stock Ownership Plan and Trust, Saint Cloud, Minnesota, (ESOP); to acquire voting shares of the ESOP, and thereby indirectly acquire voting shares of Stearns Financial Services, Inc., Saint Cloud, Minnesota, and thereby indirectly acquire shares of Stearns Bank National Association, Saint Cloud, Minnesota, Stearns Bank of Upsala National Association, Upsala, Minnesota, and Stearns Bank of Holdingford National Association, Holdingford, Minnesota.

B. Federal Reserve Bank of San Francisco (Gerald C. Tsai, Director, Applications and Enforcement) 101 Market Street, San Francisco, California 94105-1579:

1. Raymond Louis Craemer and Julia Craemer, Palos Verdes Estates, California, Sarah Rae Craemer, Austin, Texas, Elana Marianne Craemer, Long Beach, California, and the Julia and Ray Craemer Family Foundation, Torrance, California; to acquire additional voting shares of Malaga Financial Corporation and thereby indirectly acquire shares of Malaga Bank, FSB, both of Palos Verdes Estates, California.

Board of Governors of the Federal Reserve System, April 30, 2019.
Yao-Chin Chao,
Assistant Secretary of the Board.

[FR Doc. 2019-09131 Filed 5-3-19; 8:45 am]

BILLING CODE P